DEPARTMENT OF AGRICULTURE

Commodity Credit Corporation

7 CFR Part 1436

RIN 0560-AG00

Farm Storage Facility Loan Program

AGENCY: Commodity Credit Corporation, USDA.

ACTION: Correction to final rule.

SUMMARY: This document contains a correction to the final rule which was published Thursday, January 18, 2001 (66 FR 4607). The section entitled “Eligible borrowers” was incorrectly numbered and is corrected with this document.

EFFECTIVE DATE: March 29, 2001.

FOR FURTHER INFORMATION CONTACT: Tom Witzig, (202) 205-5851.

Correction of Publication

Accordingly, in the final rule published January 18, 2001, (66 FR 4607) make the following correction:

§ 1436.5 [Corrected]

On page 4613, in § 1436.5, the second paragraph (a)(6) and paragraphs (a)(7) through (a)(10) are redesignated as paragraphs (a)(7) through (a)(11).

Signed at Washington, DC, on March 22, 2001.
James R. Little,
Executive Vice President, Commodity Credit Corporation.

[FR Doc. 01-7787 Filed 3-28-01; 8:45 am]

BILLING CODE 3410-05-P